DEPARTMENT OF AGRICULTURE

Office of Advocacy and Outreach

Advisory Committee on Beginning Farmers and Ranchers Request for Nominations

AGENCY: Office of Advocacy and Outreach, USDA.

ACTION: Extension of time for submitting nominations.

SUMMARY: We are giving notice that the Secretary of Agriculture will extend the time to submit nominations and applications to serve on the Advisory Committee on Beginning Farmers and Ranchers (the “Committee”) for an additional term of 2 years through December 14, 2014. This will give interested persons additional time to prepare and submit nomination packages.

DATES: Consideration will be given to nominations received on or before January 15, 2013.

FOR FURTHER INFORMATION CONTACT: Mrs. R. J. Cabrera, Designated Federal Official, USDA OAO, 1400 Independence Avenue, Room 520-A, Washington, DC 20250-0170; Telephone (202) 720-6350; Fax (202) 720-7704; Email: rj.cabrera@osec.usda.gov.

ADDRESSES: Nomination packages may be sent by postal mail or commercial delivery to: Mrs. R. J. Cabrera, Designated Federal Official, USDA OAO, 1400 Independence Avenue, Room 520-A, Washington, DC 20250-0170. Nomination packages may also be faxed to (202) 720-7704.

SUPPLEMENTARY INFORMATION: On December 20, 2012 we published in the Federal Register (FR DOC# 2012-30471, Pages 75105-75106) a Notice of Intent To Renew and Request for Nominations. Applications were required to be received on or before December 31, 2012. We are extending the submission period to January 16, 2013.We will also consider all applications received between December 19, 2012 and January 1, 2013 (the day after the original submission period).

We are soliciting nominations from interested organizations and individuals from among ranching and farming producers (industry), related government, State, and Tribal agricultural agencies, academic institutions, commercial banking entities, trade associations, and related nonprofit enterprises. An organization may nominate individuals from within or outside its membership; alternatively, an individual may nominate herself or himself. Nomination packages should include a nomination form along with a cover letter or resume that documents the nominee's background and experience. Nomination forms are available on the Internet at http://www.ocio.usda.gov/forms/doc/AD-755.pdf or may be obtained from Mrs. R. J. Cabrera at the address or telephone number noted above.

The Secretary will select up to 20 members from among those organizations and individuals solicited, in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, this 20th day of December, 2012.
Dexter Pearson,
Associate Director, Office of Advocacy and Outreach.

[FR Doc. 2012-31343 Filed 12-28-12; 8:45 am]

BILLING CODE P